DEPARTMENT OF HEALTH AND HUMAN SERVICES

Centers for Disease Control and Prevention

Board of Scientific Counselors (BSC), National Center for Injury Prevention and Control (NCIPC)

The meeting announced below concerns Research Grants for Preventing Violence and Violence Related Injury (R01), Funding Opportunity Announcements (FOA) CE12-002, and Identifying Modifiable Protective Factors for Intimate Partner Violence or Sexual Violence Perpetration (R01), FOA CE12-003.

In accordance with Section 10(a)(2) of the Federal Advisory Committee Act (Pub. L. 92-463), the Centers for Disease Control and Prevention (CDC) announces the aforementioned meeting:

Time and Date:

11:00 a.m.-12:15 p.m., June 13, 2012 (Closed).

12:15 p.m.-1:00 p.m., June 13, 2012 (Open).

Place: Teleconference.

Status: A portion of the meeting will be closed to the public in accordance with provisions set forth in Section 552b(c) (4) and (6), Title 5 U.S.C., and the Determination of the Director, Management Analysis and Services Office, CDC, pursuant to Public Law 92-463.

Matters To Be Discussed: Closed Session: The meeting will include the secondary review, discussion of competitive applications following initial review of applications received in response to FOA CE12-002; Research Grants for Preventing Violence and Violence Related Injury (R01) and CE12-003; and Identifying Modifiable Protective Factors for Intimate Partner Violence or Sexual Violence Perpetration (R01). Open Session: The meeting will include a science update, and a discussion on the pediatric traumatic brain injury workgroup.

Contact Person for More Information: Gwendolyn Haile Cattledge, Ph.D., M.S.E.H., F.A.C.E., Deputy Associate Director for Science, CDC, 4770 Buford Highway, Atlanta, Georgia 30341, Telephone: (404) 488-1430.

The Director, Management Analysis and Services Office, has been delegated the authority to sign Federal Register notices pertaining to announcements of meetings and other committee management activities, for both the Centers for Disease Control and Prevention and the Agency for Toxic Substances and Disease Registry.

Dated: May 18, 2012.
John Kastenbauer,
Acting Director, Management Analysis and Services Office Centers for Disease Control and Prevention.

[FR Doc. 2012-12661 Filed 5-23-12; 8:45 am]

BILLING CODE 4163-18-P